OVERSEAS PRIVATE INVESTMENT CORPORATION

January 31, 2008 Board of Directors Meeting

Time and Date: Thursday, January 31, 2008, 10 a.m. (Open Portion) 10:15 a.m. (Closed Portion).

Place: Offices of the Corporation, Twelfth Floor Board Room, 1100 New York Avenue, NW., Washington, DC.

Status: Meeting Open to the Public from 10 a.m. to 10:15 a.m. Closed portion will commence at 10:15 a.m. (approx.).

Matters To Be Considered:

1. President's Report.

2. Tribute—Ambassador Karan K. Bhatia.

3. Tribute—Ambassador Ned L. Siegel.

4. Tribute—Edith P. Quintrell.

5. Approval of September 20, 2007 Minutes (Open Portion).

Further Matters To Be Considered: (Closed to the Public 10:15 a.m.)

1. Report from Audit Committee.

2. Report from Office of Chief Financial Officer.

3. Finance Project—Lebanon.

4. Finance Project—Global.

5. Finance Project—Mexico.

6. Finance Project—Nicaragua.

7. Finance Project—Sub-Saharan and North Africa.

8. Finance Project—Sub-Saharan Africa.

9. Finance Project—East Africa.

10. Finance Project—Africa.

11. Finance Project—Sub-Saharan Africa.

12. Finance Project—Middle East, North Africa.

13. Pending Major Projects.

14. Approval of September 20, 2007 Minutes (Closed Portion).

Contact Person for Information: Information on the meeting may be obtained from Connie M. Downs at (202) 336-8438.

Dated: January 11, 2008.
Connie M. Downs,
Corporate Secretary, Overseas Private Investment Corporation.

[FR Doc. 08-117 Filed 1-11-08; 1:17 pm]

BILLING CODE 3210-01-M